DEPARTMENT OF HEALTH AND HUMAN SERVICES

Food and Drug Administration

21 CFR Part 101

Change of Address; Technical Amendment

AGENCY: Food and Drug Administration, HHS.

ACTION: Final rule; technical amendment.

SUMMARY: The Food and Drug Administration (FDA) is amending its regulations to correct an incorrect address for the Center for Food Safety and Applied Nutrition (CFSAN). This action is editorial in nature and is intended to improve the accuracy of the agency's regulations.

DATES: This rule is effective July 21, 2005.

FOR FURTHER INFORMATION CONTACT: Joyce Strong, Office of Policy and Planning (HF-27), Food and Drug Administration, 5600 Fishers Lane, Rockville, MD 20857, 301-827-7010.

SUPPLEMENTARY INFORMATION: FDA is amending its regulations in § 101.83 (21 CFR 101.83) to reflect the correct address for CFSAN.

Publication of this document constitutes final action on these changes under the Administrative Procedure Act (5 U.S.C. 553). Notice and public procedure are unnecessary because FDA is merely correcting nonsubstantive errors.

List of Subjects in 21 CFR Part 101

Food labeling, Nutrition, Reporting and recordkeeping requirements.

Therefore, under the Federal Food, Drug, and Cosmetic Act and under authority delegated to the Commissioner of Food and Drugs, 21 CFR part 101 is amended as follows:

PART 101—FOOD LABELING

1. The authority citation for 21 CFR part 101 continues to read as follows:

Authority: 15 U.S.C. 1453, 1454, 1455; 21 U.S.C. 321, 331, 342, 343, 348, 371; 42 U.S.C. 243, 264, 271.

§ 101.83 [Amended]

2. Section 101.83 is amended in paragraph (c)(2)(ii)(A)(2) by removing “200 C St. SW., rm. 2831, Washington, DC 20204” and by adding in its place “5100 Paint Branch Pkwy., College Park, MD 20740” and in paragraph (c)(2)(ii)(B)(2)by removing “200 C St., SW., rm. 2831, Washington, DC 20204” and “200 C St., SW., Washington DC” and by adding in their place “5100 Paint Branch Pkwy., College Park, MD 20740”.

Dated: July 14, 2005.
Jeffrey Shuren,
Assistant Commissioner for Policy.

[FR Doc. 05-14328 Filed 7-20-05; 8:45 am]

BILLING CODE 4160-01-S